DEPARTMENT OF ENERGY

Federal Energy Regulatory Commission

Combined Notice of Filings #2

Take notice that the Commission received the following electric rate filings:

Docket Numbers: ER11-2029-011.

Applicants: Cedar Creek II, LLC.

Description: Triennial Market Power Analysis for Northwest Region of Cedar Creek II, LLC.

Filed Date: 12/31/25.

Accession Number: 20251231-5492.

Comment Date: 5 p.m. ET 3/2/26.

Docket Numbers: ER16-1720-032.

Applicants: Invenergy Energy Management LLC.

Description: Triennial Market Power Analysis for Northwest Region of Invenergy Energy Management LLC.

Filed Date: 12/31/25.

Accession Number: 20251231-5489.

Comment Date: 5 p.m. ET 3/2/26.

Docket Numbers: ER17-1329-007.

Applicants: J.P. Morgan Ventures Energy Corporation.

Description: Triennial Market Power Analysis for Northwest Region of J.P. Morgan Ventures Energy Corporation.

Filed Date: 12/31/25.

Accession Number: 20251231-5491.

Comment Date: 5 p.m. ET 3/2/26.

Docket Numbers: ER19-1634-007; ER10-2196-012; ER13-1141-010; ER13-1142-010; ER13-1143-013; ER13-1144-013; ER17-1849-011; ER19-1009-006; ER19-1633-007; ER19-1638-007; ER20-844-008; ER20-2452-014; ER20-2453-015.

Applicants: Hamilton Patriot LLC, Hamilton Liberty LLC, Hamilton Projects Acquiror, LLC, Tiverton Power LLC, Rumford Power LLC, Revere Power, LLC, Nautilus Power, LLC, Essential Power Rock Springs, LLC, Essential Power OPP, LLC, Essential Power Newington, LLC, Essential Power Massachusetts, LLC, Lakewood Cogeneration L.P., Bridgeport Energy LLC.

Description: Triennial Market Power Analysis for Northeast Region of Bridgeport Energy LLC, et al.

Filed Date: 12/29/25.

Accession Number: 20251229-5584.

Comment Date: 5 p.m. ET 2/27/26.

Docket Numbers: ER24-3130-001.

Applicants: Apex Solar, LLC.

Description: Notice of Non-Material Change in Status and Request for Confidential Treatment of Apex Solar, LLC.

Filed Date: 12/31/25.

Accession Number: 20251231-5487.

Comment Date: 5 p.m. ET 1/21/26.

Docket Numbers: ER25-1654-002.

Applicants: SF Azalea, LLC.

Description: Notice of Non-Material Change in Status of SF Azalea, LLC.

Filed Date: 1/2/26.

Accession Number: 20260102-5312.

Comment Date: 5 p.m. ET 1/23/26.

Docket Numbers: ER25-2291-002; ER10-1852-122; ER10-1857-026; ER10-1899-027; ER10-1932-026; ER10-1935-027; ER10-1951-094; ER10-1973-026; ER10-1974-037; ER11-4462-117; ER13-752-026; ER14-1630-023; ER15-2601-019; ER16-1509-007; ER17-838-091; ER17-1774-017; ER18-1534-019; ER18-1535-018; ER18-1863-020; ER20-2012-014; ER20-2153-014; ER21-183-012; ER21-744-011; ER21-1879-011; ER21-2641-011; ER22-1454-005; ER11-3941-022; ER22-2706-010; ER23-2915-007; ER24-26-007; ER24-1816-006; ER25-2292-002; ER25-3122-002; ER25-3123-002.

Applicants: Trelina Solar Energy Center, LLC, Garnet Energy Center, LLC, Excelsior Energy Center, LLC, High River Energy Center, LLC, East Point Energy Center, LLC, Chesapeake Solar Project, LLC, Eight Point Wind, LLC, Granite Reliable Power, LLC, LI Solar Generation, LLC, Quinebaug Solar, LLC, Farmington Solar, LLC, Wallingford Renewable Energy LLC, Nutmeg Solar, LLC, Sanford Airport Solar, LLC, Orbit Bloom Energy, LLC, Coolidge Solar I, LLC, Montauk Energy Storage Center, LLC, East Hampton Energy Storage Center, LLC, NextEra Energy Bluff Point, LLC, NextEra Energy Marketing, LLC, New Wave Energy LLC, Green Mountain Storage, LLC, Mantua Creek Solar, LLC, Energy Storage Holdings, LLC,NEPM II, LLC, Northeast Energy Associates, A Limited Partnership, NextEra Energy Seabrook, LLC, NextEra Energy Services Massachusetts, LLC, FPL Energy Wyman IV, LLC, FPL Energy Wyman, LLC, FPL Energy Illinois Wind, LLC, FPL Energy Cape, LLC, Florida Power & Light Company, Cherrywood Solar I, LLC.

Description: Triennial Market Power Analysis for Northeast Region of Cherrywood Solar I, LLC, et al.

Filed Date: 12/29/25.

Accession Number: 20251229-5585.

Comment Date: 5 p.m. ET 2/27/26.

Docket Numbers: ER25-3206-001; ER25-3210-001.

Applicants: Crooked Creek PV I, LLC, Cherry Valley PV I, LLC.

Description: Notice of Non-Material Change in Status of Cherry Valley PV I, LLC, et al.

Filed Date: 1/2/26.

Accession Number: 20260102-5314.

Comment Date: 5 p.m. ET 1/23/26.

Docket Numbers: ER25-3207-001.

Applicants: Cooks Mill PV I, LLC.

Description: Notice of Non-Material Change in Status of Cooks Mill PV I, LLC.

Filed Date: 1/2/26.

Accession Number: 20260102-5316.

Comment Date: 5 p.m. ET 1/23/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 6, 2026.
Carlos D. Clay,
Deputy Secretary.

[FR Doc. 2026-00261 Filed 1-8-26; 8:45 am]

BILLING CODE 6717-01-P